DEPARTMENT OF THE TREASURY

Office of Thrift Supervision

Amendment of a Federal Savings Association Charter

AGENCY: Office of Thrift Supervision (OTS), Treasury.

ACTION: Notice and request for comment.

SUMMARY: The proposed information collection request (ICR) described below has been submitted to the Office of Management and Budget (OMB) for review and approval, as required by the Paperwork Reduction Act of 1995, 44 U.S.C. 3507. OTS is soliciting public comments on the proposal.

DATES: Submit written comments on or before May 12, 2011. A copy of this ICR, with applicable supporting documentation, can be obtained from RegInfo.gov at http://www.reginfo.gov/public/do/PRAMain.

ADDRESSES: Send comments, referring to the collection by title of the proposal or by OMB approval number, to OMB and OTS at these addresses: Office of Information and Regulatory Affairs, Attention: Desk Officer for OTS, U.S. Office of Management and Budget, 725 17th Street, NW., Room 10235, Washington, DC 20503, or by fax to (202) 393-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., Washington, DC 20552 by appointment. To make an appointment, call (202) 906-5922, send an e-mail to public.info@ots.treas.gov, or send a facsimile transmission to (202) 906-7755.

FOR FURTHER INFORMATION CONTACT: For further information or to obtain a copy of the submission to OMB, please contact Ira L. Mills at, ira.mills@ots.treas.gov, or on (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Amendment of a Federal Savings Association Charter.

OMB Number: 1550-0018.

Form Number: N/A.

Description: The charter of an insured federal savings association is a formal document created when a savings association establishes its corporate existence. The charter states the scope, purpose and duration for the corporate entity. Also, for a federally chartered savings association, the charter confirms that the board of directors has formally committed the institution to Section 5 of the Home Owners' Loan Act (“HOLA”) and other applicable statutes and regulations governing federally chartered savings associations. See 12 U.S.C. 1464.

All federally chartered savings associations are required to file charter amendment applications or notices with OTS. OTS Regional Office staff review the applications and notices to determine whether the charter amendments comply with the regulations and OTS policy.

Type of Review: Extension of a currently approved collection.

Affected Public: Business or other for-profit.

Estimated Number of Respondents: 1.

Estimated Frequency of Response: On occasion.

Estimated Total Burden: 6 hours.

Clearance Officer: Ira L. Mills, (202) 906-6531, Office of Thrift Supervision, 1700 G Street, NW., Washington, DC 20552.

Dated: April 6, 2011.
Ira L. Mills,
Paperwork Clearance Officer,
Office of Chief Counsel, Office of Thrift Supervision.

[FR Doc. 2011-8594 Filed 4-11-11; 8:45 am]

BILLING CODE 6720-01-P